DEPARTMENT OF AGRICULTURE

Forest Service

Hood/Willamette Resource Advisory Committee

AGENCY: Forest Service, USDA

ACTION: Action of meeting.

SUMMARY: The Hood/Willamette Resource Advisory Committee (RAC) will meet on Thursday, August 8, 2002. The meeting is scheduled to begin at 9 a.m. and will conclude at approximately 4 p.m. The meeting will be held at the Salem Office of the Bureau of Lane Management Office; 1717 Fabry Road SE; Salem, Oregon; (503) 375-5646. The tentative agenda includes: (1) Report on status of 2002 projects; (2) Recommendations on 2003 Projects; and (3) Public Forum.

The Public Forum is tentatively scheduled to begin at 9:30 p.m. Time allotted for individual presentations will be limited to 3-4 minutes. Written comments are encouraged; particularly if the material cannot be presented within the time limits for the Public Forum. Written comments may be submitted prior to the August 8th meeting by sending them to Designated Federal Official Donna Short at the address given below.

FOR FURTHER INFORMATION CONTACT: For more information regarding this meeting, contact Designated Federal Official Donna Short; Sweet Home Ranger District; 3225 Highway 20; Sweet Home, Oregon 97386; (541) 367-9220.

Dated: July 10, 2002.
Y. Robert Iwamoto,
Acting Forest Supervisor.

[FR Doc. 02-18201 Filed 7-18-02; 8:45 am]

BILLING CODE 3410-11-M